DEPARTMENT OF TRANSPORTATION

Federal Aviation Administration

14 CFR Part 39

[Docket No. FAA-2006-26112; Directorate Identifier 2006-NE-35-AD; Amendment 39-14837; AD 2006-24-08]

RIN 2120-AA64

Airworthiness Directives; Pratt & Whitney Canada (P&WC) PW535A Turbofan Engines; Correction

AGENCY: Federal Aviation Administration (FAA), Department of Transportation (DOT).

ACTION: Final rule; correction.

SUMMARY: The FAA is correcting airworthiness directive (AD) 2006-24-08. That AD applies to Pratt & Whitney Canada (P&WC) PW535A turbofan engines. We published that AD in the Federal Register on December 4, 2006 (71 FR 70284). The fuel manifold part number (P/N) 3025267-01 listed in paragraph (c) is incorrect. This document corrects that P/N. In all other respects, the original document remains the same.

EFFECTIVE DATE: Effective May 22, 2007.

FOR FURTHER INFORMATION CONTACT: Ian Dargin, Aerospace Engineer, Engine Certification Office, FAA, Engine & Propeller Directorate, 12 New England Executive Park, Burlington, MA, 01803; telephone (781) 238-7178; fax (781) 238-7199.

SUPPLEMENTARY INFORMATION: On December 4, 2006 (71 FR 70284), we published a final rule AD, FR Doc, E6-20204, in the Federal Register. That AD applies to P&WC PW535A turbofan engines. We need to make the following correction:

§ 39.13 [Corrected]

On page 70286, in the second column, in paragraph (c), in the fourth line, “3025267-01” is corrected to read “3052627-01”.

Issued in Burlington, Massachusetts, on May 14, 2007.
Peter A. White,
Acting Manager, Engine and Propeller Directorate, Aircraft Certification Service.

[FR Doc. E7-9719 Filed 5-21-07; 8:45 am]

BILLING CODE 4910-13-P